DEPARTMENT OF COMMERCE

International Trade Administration

[A-549-502]

Circular Welded Carbon Steel Pipes and Tubes From Thailand: Rescission of Antidumping Duty Administrative Review; 2015

AGENCY: Enforcement and Compliance, International Trade Administration, Department of Commerce.

DATES: Effective date: September 22, 2015.

FOR FURTHER INFORMATION CONTACT: Alexander Cipolla or Nicholas Czajkowski, Enforcement and Compliance, International Trade Administration, U.S. Department of Commerce, 14th Street and Constitution Avenue NW., Washington, DC 20230; telephone: (202) 482-4956 and (202) 482-1395, respectively.

Background

On March 2, 2015, the Department of Commerce (the Department) published a notice of opportunity to request an administrative review of the antidumping duty (AD) order on circular welded carbon steel pipes and tubes from Thailand covering the period of review (POR) of March 1, 2014, through February 28, 2015.¹ The Department received a timely request for review of Saha Thai Steel Pipe (Public) Company, Ltd. (Saha Thai).² The Department published a notice initiating an administrative review of the AD order on circular welded carbon steel pipes and tubes from Thailand with respect to Saha Thai.³ On April 28, 2015, Saha Thai timely withdrew its request for review.⁴

¹ See Antidumping or Countervailing Duty Order, Finding, or Suspended Investigation; Opportunity To Request Administrative Review, 80 FR 11161 (March 2, 2015).

² See Letter to the Department from Saha Thai “Circular Welded Carbon Steel Pipes and Tubes from Thailand, (A-549-502)—Request for Administrative Review for POR 2014-2015,” dated March 31, 2015.

³ See Initiation of Antidumping and Countervailing Duty Administrative, 80 FR 24233 (April 30, 2015).

⁴ See Letter to the Department from Saha Thai “Circular Welded Carbon Steel Pipes and Tubes from Thailand (A-549-502)—Withdrawal of Request for Administrative Review for POR 2014-2015” dated April 28, 2015.

Rescission

Pursuant to 19 CFR 351.213(d)(1), the Department will rescind an administrative review, in whole or in part, if the party or parties that requested the review withdraws the request within 90 days of the publication date of the notice of initiation of the requested review. As noted above, Saha Thai withdrew its request for review within 90 days of the publication date of the notice of initiation. No other parties requested an administrative review of the order. Therefore, in accordance with 19 CFR 351.213(d)(1), we are rescinding this review in its entirety.

Assessment

The Department will instruct U.S. Customs and Border Protection (CBP) to assess antidumping duties on all appropriate entries of circular welded carbon steel pipes and tubes from Thailand. Antidumping duties shall be assessed at rates equal to the cash deposit of estimated antidumping duties required at the time of entry, or withdrawal from warehouse, for consumption in accordance with 19 CFR 351.212(c)(1)(i). The Department intends to issue appropriate assessment instructions to CBP 15 days after the date of publication of this notice of rescission of administrative review.

Notification Regarding Administrative Protective Orders

This notice also serves as a final reminder to importers of their responsibility under 19 CFR 351.402(f)(2) to file a certificate regarding the reimbursement of antidumping duties prior to liquidation of the relevant entries during this review period. Failure to comply with this requirement could result in the presumption that reimbursement of antidumping duties occurred and the subsequent assessment of double antidumping duties

This notice also serves as a final reminder to parties subject to the administrative protective order (APO) of their responsibility concerning the disposition of proprietary information disclosed under an APO in accordance with 19 CFR 351.305(a)(3), which continues to govern business proprietary information in this segment of the proceeding. Timely written notification of the return or destruction of APO materials, or conversion to judicial protective order, is hereby requested. Failure to comply with the regulations and terms of an APO is a violation which is subject to sanction.

This notice is issued and published in accordance with sections 751(a)(1) and 777(i)(1) of the Tariff Act of 1930, as amended, and 19 CFR 351.213(d)(4).

Dated: September 15, 2015.
Christian Marsh,
Deputy Assistant Secretary for Antidumping and Countervailing Duty Operations.

[FR Doc. 2015-24057 Filed 9-21-15; 8:45 am]

BILLING CODE 3510-DS-P